DEPARTMENT OF HOMELAND SECURITY

U.S. Immigration and Customs Enforcement

[Docket No. ICEB-2022-0010]

RIN 1653-ZA30

Employment Authorization for Venezuelan F-1 Nonimmigrant Students Experiencing Severe Economic Hardship as a Direct Result of the Humanitarian Crisis in Venezuela

AGENCY: U.S. Immigration and Customs Enforcement, Department of Homeland Security.

ACTION: Notice.

SUMMARY: This notice announces that the Secretary of Homeland Security (Secretary) is suspending certain regulatory requirements for F-1 nonimmigrant students whose country of citizenship is Venezuela, regardless of country of birth (or individuals having no nationality who last habitually resided in Venezuela), and who are experiencing severe economic hardship as a direct result of the humanitarian crisis in Venezuela. The Secretary is taking action to provide relief to those Venezuelan students who were in lawful F-1 nonimmigrant student status on April 22, 2021, and are currently maintaining F-1 nonimmigrant student status, so the students may request employment authorization, work an increased number of hours while school is in session, and reduce their course load while continuing to maintain their F-1 nonimmigrant student status. The U.S. Department of Homeland Security (DHS) will deem an F-1 nonimmigrant student who receives employment authorization by means of this notice to be engaged in a “full course of study” for the duration of the employment authorization, if the nonimmigrant student satisfies the minimum course load requirement described in this notice.

DATES: This F-1 visa action is effective from September 10, 2022, through March 10, 2024.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising the authority under 8 CFR 214.2(f)(9) to temporarily suspend the applicability of certain requirements governing on-campus and off-campus employment for F-1 nonimmigrant students whose country of citizenship is Venezuela regardless of country of birth (or individuals having no nationality who last habitually resided in Venezuela), who were lawfully present in the United States in F-1 nonimmigrant student status on April 22, 2021 and continue to be lawfully present in F-1 nonimmigrant student status, and who are experiencing severe economic hardship as a direct result of the humanitarian crisis in Venezuela. The original notice, which applied to F-1 nonimmigrant students who met certain criteria, including having been lawfully present in the United States in F-1 nonimmigrant status on April 22, 2021, was effective from April 22, 2021, until September 9, 2022. See 86 FR 21328 (Apr. 22, 2021). Effective with this publication, suspension of the employment limitations is available through March 10, 2024, for those who were in lawful F-1 nonimmigrant status as of April 22, 2021, and are currently maintaining F-1 nonimmigrant status. DHS will deem an F-1 nonimmigrant student granted employment authorization through this notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of March 10, 2024, provided the student satisfies the minimum course load requirements in this notice. DHS also considers students who engage in online coursework pursuant to U.S. Immigration and Customs Enforcement (ICE) Coronavirus Disease 2019 (COVID-19) guidance for nonimmigrant students to be in compliance with regulations while such guidance remains in effect. See ICE Guidance and Frequently Asked Questions on COVID-19, Nonimmigrant Students & SEVP-Certified Schools: Frequently Asked Questions, https://www.ice.gov/coronavirus (last visited July 8, 2022).

Who is covered by this notice?

This notice applies exclusively to F-1 nonimmigrant students who meet all of the following conditions:

(1) Are a citizen of Venezuela regardless of country of birth (or an individual having no nationality who last habitually resided in Venezuela

(2) Were lawfully present in the United States in F-1 nonimmigrant status under section 101(a)(15)(F)(i) of the Immigration and Nationality Act (INA), 8 U.S.C. 1101(a)(15)(F)(i), on April 22, 2021;

(3) Are enrolled in an academic institution that is Student and Exchange Visitor Program (SEVP)-certified for enrollment for F-1 nonimmigrant students;

(4) Are currently maintaining F-1 nonimmigrant status; and

(5) Are experiencing severe economic hardship as a direct result of the humanitarian crisis in Venezuela.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to Venezuelan F-1 nonimmigrant students experiencing severe economic hardship due to the ongoing humanitarian crisis in Venezuela. Based on its review of country conditions in Venezuela and input received from the U.S. Department of State, DHS is taking action to allow eligible F-1 nonimmigrant students from Venezuela (or individuals having no nationality who last habitually resided in Venezuela) to request employment authorization, work an increased number of hours while school is in session, and reduce their course load while continuing to maintain F-1 nonimmigrant student status.

Previously DHS took action to provide temporary relief to F-1 nonimmigrant students whose country of citizenship is Venezuela regardless of country of birth (or individuals having no nationality who last habitually resided in Venezuela) and who experienced severe economic hardship because of the humanitarian crisis in Venezuela. See 86 FR 21328 (Apr. 22, 2021). It enabled these F-1 nonimmigrant students to request and obtain employment authorization, work an increased number of hours while school was in session, and reduce their course load, while continuing to maintain their F-1 nonimmigrant student status.

DHS reviewed conditions in Venezuela and determined that suspending certain employment authorization requirements for eligible nonimmigrant students is again warranted due to the ongoing humanitarian crisis. Venezuela “remains in the throes of a prolonged humanitarian emergency.” ² Under Nicolás Maduro's regime,³ the country “has been in the midst of a severe political and economic crisis for several years.” ⁴ As of February 2022, the country remained “politically deadlocked and mired in humanitarian emergency.” ⁵ A wide range of factors have marked Venezuela's crisis, including: an economic crisis; inflation and hyperinflation; “massive poverty”; ⁶ a “collapsed health system”; ⁷ the impact of the COVID-19 pandemic; food insecurity, including child malnutrition; the collapse and deprivation of basic services; power outages; water and fuel shortages; political polarization and dispute between the regime and the opposition; repression of perceived regime opponents and dissidents; human rights abuses, including allegations of crimes against humanity; high rates of homicide and crime; the operation of non-state armed groups; corruption; and killings by security forces, among other factors.⁸ The United Nations Office for the Coordination of Humanitarian Affairs (UNOCHA) has reported that “[s]even million people require some form of humanitarian or protection assistance in Venezuela.” ⁹

² Overcoming the Global Rift on Venezuela, International Crisis Group, p.3, Feb. 17, 2022.

³ Ribando Seelke, Clare, Nelson, Rebecca M, Margesson, Rhoda, Brown, Phillip, Venezuela: Background and U.S. Relations, Congressional Research Service (CRS), Summary, Apr. 28, 2021.

⁴ Venezuelan Humanitarian and Refugee Crisis, Center for Disaster Philanthropy, Jan. 25, 2022.

⁵ Overcoming the Global Rift on Venezuela, International Crisis Group, p. I, Feb. 17, 2022.

⁶ Why the kids of Venezuela aren't getting enough to eat, NPR, Jan. 11, 2022.

⁷ World Report 2022—Venezuela, Human Rights Watch, Jan. 2022.

⁸ Venezuelan Humanitarian and Refugee Crisis, Center for Disaster Philanthropy, Jan. 25, 2022; Ribando Seelke, Clare, Nelson, Rebecca M., Brown, Phillip, Margesson, Rhoda, Venezuela: Background and U.S. Relations, Congressional Research Service (CRS), p.6, 8-9, 11, Summary, Apr. 28, 2021; Venezuela creeps out of hyperinflation, but no one feels it, Agence France-Presse (AFP), Jan. 15, 2022; World Report 2022—Venezuela, Human Rights Watch, Jan. 2022; Situation of human rights and technical assistance in the Bolivarian Republic of Venezuela, Office of the United Nations High Commissioner for Human Rights (OHCHR), p.4-5, Sep. 10, 2021; Why the kids of Venezuela aren't getting enough to eat, NPR, Jan. 11, 2022; Venezuela: Complex Crisis—Overview, ACAPS, Oct. 14, 2021, https://www.acaps.org/country/venezuela/crisis/complex-crisis (last visited Feb. 17, 2022); Follow-up Report on the Impacts of the Complex Humanitarian Emergency in Venezuela with the COVID pandemic. Update as of June 2021, HumVenezuela, p.14, Jun. 2021; Venezuelan Migration and Refugee Crisis, Working Group of the Organization of American States (OAS) on the Crisis of Venezuelan Migrants and Refugees in the Region, p. 12-22, Jun. 2021; Delgado, Antonio Maria, and Rodríguez Montilla, Camille, `The country's whole food supply is at risk.' Diesel shortages hit Venezuela's truckers., Miami Herald, Mar. 11, 2021; Venezuela: Country Focus, European Asylum Support Office (EASO), p.21, Aug. 2020; Overcoming the Global Rift on Venezuela, International Crisis Group, p. i, Feb. 17, 2022; Situation of human rights in the Bolivarian Republic of Venezuela, Office of the United Nations High Commissioner for Human Rights (OHCHR), p.4, Jun. 16, 2021; Venezuela 2020 Crime & Safety Report, Overseas Security Advisory Council (OSAC), U.S. Department of State, July 21, 2020; InSight Crime's 2021 Homicide Round-Up, InSight Crime, Feb. 1, 2022; Gorder, Gabrielle, and Robbins, Seth, What are the Most Corrupt Countries in Latin America?, InSight Crime, Feb. 11, 2022; Venezuela: Calculated repression: Correlation between stigmatization and politically motivated arbitrary detentions, Amnesty International, p.11, 52, Feb. 10, 2022.

⁹ Venezuela, United Nations Office for the Coordination of Humanitarian Affairs (UNOCHA), https://www.unocha.org/venezuela (last visited Mar. 11, 2022).

Economic Crisis

Venezuela continues to be impacted by a severe economic crisis.¹⁰ The Congressional Research Service (CRS) reported in April 2021 that “Venezuela's economy has collapsed”,¹¹ Venezuela was “plagued by hyperinflation” ¹² and “[a]ccording to household surveys, the percentage of Venezuelans living in poverty increased from 48.4% in 2014 to 96% in 2019 (with 80% in extreme poverty).” ¹³ According to ACAPS, “multidimensional poverty” in Venezuela “has led to the deprivation or deterioration of education, housing, overall access to public services, income, and employment.” ¹⁴

¹⁰ Venezuelan Humanitarian and Refugee Crisis, Center for Disaster Philanthropy, Jan. 25, 2022.

¹¹ Ribando Seelke, Clare, Nelson, Rebecca M, Margesson, Rhoda, Brown, Phillip, Venezuela: Background and U.S. Relations, Congressional Research Service (CRS), Summary, Apr. 28, 2021.

¹² Ribando Seelke, Clare, Nelson, Rebecca M., Brown, Phillip, Margesson, Rhoda, Venezuela: Background and U.S. Relations, Congressional Research Service (CRS), Summary, Apr. 28, 2021.

¹³ Ribando Seelke, Clare, Nelson, Rebecca M., Brown, Phillip, Margesson, Rhoda, Venezuela: Background and U.S. Relations, Congressional Research Service (CRS), p.11, Apr. 28, 2021.

¹⁴ Venezuela: Complex Crisis—Overview, ACAPS, Oct. 14, 2021, https://www.acaps.org/country/venezuela/crisis/complex-crisis (last visited Feb. 17, 2022).

Health Crisis & COVID-19 Pandemic

Sources have described Venezuela's healthcare system as “run-down,” ¹⁵ “overloaded and crumbling,” ¹⁶ and “collapsed.” ¹⁷ Moreover, in its 2021 annual report (published in January 2022), Human Rights Watch (HRW) stated that Venezuela's “collapsed health system” has led to the resurgence of vaccine preventable and infectious diseases.¹⁸ HRW reported in January 2022 that—according to a local non-governmental organization—“83 percent of hospitals have insufficient or no access to personal protective equipment such as masks and gloves, and 95 percent similarly lack sufficient cleaning supplies, including soap and disinfectant.” ¹⁹

¹⁵ Sequera, Vivian, Venezuela COVID patients, exhausted doctors get mental health help from medical charity, Reuters, Feb. 2, 2022.

¹⁶ Venezuelans rely on the kindness of strangers to pay for COVID-19 treatment, Reuters, Oct. 4, 2021.

¹⁷ Ribando Seelke, Clare, Nelson, Rebecca M., Brown, Phillip, Margesson, Rhoda, Venezuela: Background and U.S. Relations, Congressional Research Service (CRS), p.11, Apr. 28, 2021; World Report 2022—Venezuela, Human Rights Watch, Jan. 2022.

¹⁸ World Report 2022—Venezuela, Human Rights Watch, Jan. 2022.

¹⁹ World Report 2022—Venezuela, Human Rights Watch, Jan. 2022.

COVID-19 was first detected in Venezuela in March 2020.²⁰ Since then, the regime has “declared a national `state of alarm', enforced preventive sanitary measures, and redirected the national health system toward treatment of COVID-19 patients.” ²¹ However, as the Office of the United Nations High Commissioner for Human Rights also noted in a September 2021 report, the pandemic compounded preexisting challenges such as lack of equipment and medicines, loss of qualified health personnel, and insufficient maintenance of infrastructure.²² Moreover, in January 2022, HRW reported that “Venezuela's C[OVID]-19 vaccination has been marred by corruption allegations and opacity regarding the acquisition and distribution of vaccines and other medical supplies.” ²³

²⁰ Situation of human rights and technical assistance in the Bolivarian Republic of Venezuela, Office of the United Nations High Commissioner for Human Rights (OHCHR), p.4, Sep. 10, 2021.

²¹ Situation of human rights and technical assistance in the Bolivarian Republic of Venezuela, Office of the United Nations High Commissioner for Human Rights (OHCHR), p.4, Sep. 10, 2021.

²² Situation of human rights and technical assistance in the Bolivarian Republic of Venezuela, Office of the United Nations High Commissioner for Human Rights (OHCHR), p.4, Sep. 10, 2021.

²³ World Report 2022—Venezuela, Human Rights Watch, Jan. 2022.

Food Security

In April 2021, CRS reported that food insecurity in Venezuela is “a significant issue, mainly due to the price of food rather than its lack of availability.” ²⁴ In its annual report on Venezuela, HRW noted that the “WFP [World Food Program] estimates that one in three Venezuelans is food insecure and in need of assistance.²⁵ Moreover, National Public Radio (NPR) reported in January 2022 that “Venezuela now faces a catastrophe of its own making—widespread malnutrition among the country's children.” ²⁶ The media outlet also noted that “[i]n a survey last year, the development group Caritas found that 42% of children in the country's poorest neighborhoods suffered from stunting or wasting. That means they're too short or underweight for their ages.” ²⁷

²⁴ Ribando Seelke, Clare, Nelson, Rebecca M., Brown, Phillip, Margesson, Rhoda, Venezuela: Background and U.S. Relations, Congressional Research Service (CRS), p.11, Apr. 28, 2021.

²⁵ World Report 2022—Venezuela, Human Rights Watch, Jan. 2022.

²⁶ Why the kids of Venezuela aren't getting enough to eat, NPR, Jan. 11, 2022.

²⁷ Why the kids of Venezuela aren't getting enough to eat, NPR, Jan. 11, 2022.

Access to Basic Services (Electricity, Water, and Gas)

Venezuela has experienced a “collapse of basic services.” ²⁸ In a June 2021 report, the Working Group of the Organization of American States (OAS) on the Crisis of Venezuelan Migrants and Refugees in the Region noted that Venezuelans face daily power outages and face water shortages.²⁹ Reuters noted in February 2021 that “[p]rovincial cities have suffered frequent blackouts since a 2019 power outage paralyzed the country for nearly a month.” ³⁰ In mid-December 2021, Venezuela experienced blackouts in Caracas and at least 15 of 23 states.³¹ ACAPS has noted that “[a]ccess to clean water is increasingly difficult after the collapse of basic services, aggravating water and sanitation problems.” ³² Exposure to unsafe water puts people's lives and health at risk. By 2021, 76% of the population was affected by deficient sewage collection services and some 15.9% remained unconnected to the sewage network.³³ NPR reported that many in Venezuela have fallen back on using fire to cook because normally 90% of the population cooks with propane stoves, but there is a severe propane shortage and those with electric stoves cannot use them with the frequent power outages.³⁴

²⁸ Venezuela: Complex Crisis—Overview, ACAPS, Oct. 14, 2021, https://www.acaps.org/country/venezuela/crisis/complex-crisis (last visited Feb. 17, 2022).

²⁹ Venezuelan Migration and Refugee Crisis, Working Group of the Organization of American States (OAS) on the Crisis of Venezuelan Migrants and Refugees in the Region, p. 20, Jun. 2021.

³⁰ Ellsworth, Brian, and Sequera, Vivian, Analysis: Collapsed health system makes Venezuela vaccination campaign an uphill battle, Reuters, Feb. 12, 2021.

³¹ Venezuela experiences blackouts in capital and at least 15 states, Reuters, Dec. 17, 2021.

³² Venezuela: Complex Crisis—Overview, ACAPS, Oct. 14, 2021, https://www.acaps.org/country/venezuela/crisis/complex-crisis (last visited Feb. 24, 2022).

³³ Follow-up Report on the Impacts of the Complex Humanitarian Emergency in Venezuela with the COVID pandemic. Update as of June 2021, HumVenezuela, p.26, Jun. 2021.

³⁴ Otis, John, Venezuelans are cooking over wood fires because of a shortage of propane, NPR, Jan. 8, 2022.

Political Crisis

Moreover, Venezuela has experienced over “two decades of political tumult” amidst a between self-proclaimed socialist Hugo Chávez (1999-2013) and his successor Nicolás Maduro, on one side, and the Government of Juan Guaido and an opposition alliance on the other.³⁵ The European Asylum Support Office (EASO) reported that this political polarization contributed to the emergence of institutional duality in Venezuela, in which each side does not recognize the validity of the other's institutions.³⁶

³⁵ Overcoming the Global Rift on Venezuela, International Crisis Group, p.i, Feb. 17, 2022.

³⁶ Venezuela: Country Focus, European Asylum Support Office (EASO), p.21, Aug. 2020.

Political Repression & Human Rights

According to CRS, international organizations have expressed concerned about the deterioration of democratic institutions and threats to freedom of speech and press in Venezuela.³⁷ In a February 2022 report, Amnesty International noted that “[c]rimes under international law and human rights violations, including politically motivated arbitrary detentions, torture, extrajudicial executions and excessive use of force have been systematic and widespread, and could constitute crimes against humanity.” ³⁸ In its annual report covering 2021, HRW stated that the regime “and its security forces are responsible for extrajudicial executions and short-term forced disappearances and have jailed opponents, prosecuted civilians in military courts, tortured detainees, and cracked down on protesters. [The regime] used a state of emergency implemented in response to C[OVID]-19 as a pretext to intensify their control over the population. The lack of judicial independence contributed to impunity for these crimes.” ³⁹

³⁷ Ribando Seelke, Clare, Nelson, Rebecca M., Brown, Phillip, Margesson, Rhoda, Venezuela: Background and U.S. Relations, Congressional Research Service (CRS), p.6, Apr. 28, 2021.

³⁸ Venezuela: Calculated repression: Correlation between stigmatization and politically motivated arbitrary detentions, Amnesty International, p.11, Feb. 10, 2022.

³⁹ World Report 2022—Venezuela, Human Rights Watch, Jan. 2022.

Crime & Insecurity

CRS reported in April 2021 that Venezuela has “among the highest homicide and crime victimization rates in Latin America and the Caribbean.” ⁴⁰ Similarly, the U.S. Department of State's Overseas Security Advisory Council (OSAC) reported in July 2020 that Venezuela has “one of the highest number [sic] of violent deaths in the region and in the world.” ⁴¹ In a report dated August 2020, EASO reported that as political conflict has intensified, armed groups operating in Venezuela have increasingly preyed on the state's absence, fissures or weakness, providing them with the sort of power and economic stakes which directly threaten the country's long-term stability and giving them effective territorial control in their areas of influence.⁴² Reporting on Transparency International's 2021 Corruption Perceptions Index (CPI), InSight Crime noted in February 2022 that Venezuela “held the title for the seventh consecutive year as the most corrupt country in the Western Hemisphere with a score of 14, an all-time low for the country.” ⁴³

⁴⁰ Ribando Seelke, Clare, Nelson, Rebecca M., Brown, Phillip, Margesson, Rhoda, Venezuela: Background and U.S. Relations, Congressional Research Service (CRS), p.6, Apr. 28, 2021.

⁴¹ Venezuela 2020 Crime & Safety Report, Overseas Security Advisory Council (OSAC), U.S. Department of State, July 21, 2020.

⁴² Venezuela: Country Focus, European Asylum Support Office (EASO), p.21, Aug. 2020.

⁴³ Gorder, Gabrielle, and Robbins, Seth, What are the Most Corrupt Countries in Latin America?, InSight Crime, Feb. 11, 2022.

Migration

More than six million refugees and migrants from Venezuela have left their country of origin, with more than five million being hosted in the region.” ⁴⁴ In June 2021, the Working Group of the OAS on the Crisis of Venezuelan Migrants and Refugees in the Region identified five main reasons that Venezuelans have been forced to flee their country: (1) “Complex Humanitarian Emergency”; (2) “Human Rights Violations”; (3) “Widespread Violence”; (4) “Collapse of Public Services”; (5) “Economic Collapse.” ⁴⁵

⁴⁴ RMRP 2022—Regional Refugee and Migrant Response Plan (RMRP)—January-December 2022, Inter-Agency Coordination Platform for Refugees and Migrants from Venezuela (R4V), p.6, Dec. 7, 2021.

⁴⁵ Venezuelan Migration and Refugee Crisis, Working Group of the Organization of American States (OAS) on the Crisis of Venezuelan Migrants and Refugees in the Region, p. 12-22, Jun. 2021.

As of July 11, 2022, approximately 3,920 F-1 nonimmigrant students from Venezuela (or individuals having no nationality who last habitually resided in Venezuela) are enrolled at SEVP-certified academic institutions in the United States. Given the extent of the ongoing humanitarian crisis in Venezuela, affected students whose primary means of financial support comes from Venezuela may need to be exempt from the normal student employment requirements to continue their studies in the United States. The ongoing humanitarian crisis has made it unfeasible for many students to safely return to Venezuela for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus- or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up- to the equivalent of one class or three credits per session, term, semester, trimester, or quarter of online or distance education toward satisfying this minimum course load requirement, unless their course of study is in an English language study program.⁴⁶ See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

⁴⁶ DHS considers students who are compliant with ICE COVID-19 guidance for nonimmigrant students to be in compliance with regulations while such COVID-19 guidance remains in effect. See ICE Guidance and Frequently Asked Questions on COVID-19, https://www.ice.gov/coronavirus (last visited July 8, 2022).

May an eligible F-1 nonimmigrant student who already has on-campus or off-campus employment authorization benefit from the suspension of regulatory requirements under this notice?

Yes. An F-1 nonimmigrant student who is a Venezuela citizen, regardless of country of birth (or an individual having no nationality who last habitually resided in Venezuela), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever date comes first].⁴⁷

⁴⁷ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of March 10, 2024, provided the student satisfies the minimum course load requirements in this notice.

Must the F-1 nonimmigrant student apply for reinstatement after expiration of this special employment authorization if the student reduces his or her “full course of study”?

No. DHS will deem an F-1 nonimmigrant student who receives and comports with the employment authorization permitted under this notice to be engaged in a “full course of study” ⁴⁸ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

⁴⁸ See 8 CFR 214.2(f)(6).

Will an F-2 dependent (spouse or minor child) of an F-1 nonimmigrant student covered by this notice be eligible for employment authorization?

No. An F-2 spouse or minor child of an F-1 nonimmigrant student is not authorized to work in the United States and, therefore, may not accept employment under the F-2 nonimmigrant status, consistent with 8 CFR 214.2(f)(15)(i).

Will the suspension of the applicability of the standard student employment requirements apply to an individual who received an initial F-1 visa and made an initial entry into the United States after April 22, 2021?

No. The suspension of the applicability of the standard regulatory requirements only applies to certain F-1 nonimmigrant students who meet the following conditions:

(1) Are a citizen of Venezuela regardless of country of birth (or an individual having no nationality who last habitually resided in Venezuela);

(2) Were lawfully present in the United States in F-1 nonimmigrant status, under section 101(a)(15)(F)(i) of the INA, 8 U.S.C. 1101(a)(15)(F)(i) on April 22, 2021;

(3) Are enrolled in an academic institution that is SEVP-certified for enrollment of F-1 nonimmigrant students;

(4) Are maintaining F-1 nonimmigrant status; and

(5) Are experiencing severe economic hardship as a direct result of the humanitarian crisis in Venezuela.

An F-1 nonimmigrant student who does not meet all these requirements is ineligible for the suspension of the applicability of the standard regulatory requirements (even if experiencing severe economic hardship as a direct result of the ongoing humanitarian crisis in Venezuela).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students from Venezuela (or individuals having no nationality who last habitually resided in Venezuela) enrolled in kindergarten through grade 12 at a private school, or grades 9 through 12 at a public high school. Such students must maintain the minimum number of hours of class attendance per week prescribed by the academic institution for normal progress toward graduation, as required under 8 CFR 214.2(f)(6)(i)(E). The suspension of certain regulatory requirements related to employment through this notice is applicable to all eligible F-1 nonimmigrant students regardless of educational level. Eligible F-1 nonimmigrant students from Venezuela (or individuals having no nationality who last habitually resided in Venezuela) enrolled in an elementary school, middle school, or high school may benefit from the suspension of the requirement in 8 CFR 214.2(f)(9)(i) that limits on-campus employment to 20 hours per week while school is in session. Nothing in this notice affects the applicability of federal and state labor laws limiting the employment of minors.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20:

Approved for more than 20 hours per week of on-campus employment and reduced course load, under the Special Student Relief authorization from [DSO must insert the beginning date of this notice or the beginning date of the student's employment, whichever date is later] until [DSO must insert the student's program end date or the end date of this notice, whichever date comes first].⁴⁹

⁴⁹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of March 10, 2024, provided the student satisfies the minimum course load requirements in this notice.

To obtain on-campus employment authorization, the F-1 nonimmigrant student must demonstrate to the DSO that the employment is necessary to avoid severe economic hardship directly resulting from the humanitarian crisis in Venezuela. An F-1 nonimmigrant student authorized by the DSO to engage in on-campus employment by means of this notice does not need to file any applications with U.S. Citizenship and Immigration Services (USCIS). The standard rules permitting full-time employment on-campus when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ⁵⁰ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.⁵¹

⁵⁰ See 8 CFR 214.2(f)(6).

⁵¹ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ⁵² for the purpose of maintaining F-1 nonimmigrant student status for the duration of the student's employment authorization if the student satisfies the minimum course load requirement described in this notice, consistent with 8 CFR 214.2(f)(6)(i)(F). However, the authorization for a reduced course load is solely for DHS purposes of determining valid F-1 nonimmigrant student status. Nothing in this notice mandates that school officials allow an F-1 nonimmigrant student to take a reduced course load if such reduced course load would not meet the school's minimum course load requirement.⁵³

⁵² See 8 CFR 214.2(f)(6).

⁵³ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the humanitarian crisis in Venezuela. Filing instructions are located at https://www.uscis.gov/i-765.

Fee considerations. Submission of a Form I-765 currently requires payment of a $410 fee. An applicant who is unable to pay the fee may submit a completed Form I-912, Request for Fee Waiver, along with the Form I-765, Application for Employment Authorization. See www.uscis.gov/feewaiver. The submission must include an explanation about why USCIS should grant the fee waiver and the reason(s) for the inability to pay, and any evidence to support the reason(s). See 8 CFR 103.7(c).

Supporting documentation. An F-1 nonimmigrant student seeking off-campus employment authorization due to severe economic hardship must demonstrate the following to their DSO:

(1) This employment is necessary to avoid severe economic hardship; and

(2) The hardship is a direct result of the humanitarian crisis in Venezuela.

If the DSO agrees that the F-1 nonimmigrant student is entitled to receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 until [DSO must insert the program end date or the end date of this notice, whichever date comes first].⁵⁴

⁵⁴ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of March 10, 2024, provided the student satisfies the minimum course load requirements in this notice.

The F-1 nonimmigrant student must then file the properly endorsed Form I-20 and Form I-765 according to the instructions for the Form I-765. The F-1 nonimmigrant student may begin working off-campus only upon receipt of the EAD from USCIS.

DSO recommendation. In making a recommendation that an F-1 nonimmigrant student be approved for Special Student Relief, the DSO certifies that:

(a) The F-1 nonimmigrant student is in good academic standing and is carrying a “full course of study” ⁵⁵ at the time of the request for employment authorization;

⁵⁵ See 8 CFR 214.2(f)(6).

(b) The F-1 nonimmigrant student is a citizen of Venezuela, regardless of country of birth (or an individual having no nationality who last habitually resided in Venezuela), and is experiencing severe economic hardship as a direct result of the humanitarian crisis in Venezuela, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ⁵⁶ and

⁵⁶ 8 CFR 214.2(f)(5)(v).

(d) The off-campus employment is necessary to alleviate severe economic hardship to the individual as a direct result of the humanitarian crisis in Venezuela.

Processing. To facilitate prompt adjudication of the student's application for off-campus-employment authorization under 8 CFR 214.2(f)(9)(ii)(C), the F-1 nonimmigrant student should do both of the following:

(a) Ensure that the application package includes all of the following documents:

(1) A completed Form I-765;

(2) The required fee or properly documented fee waiver request as defined in 8 CFR 103.7(c); and

(3) A signed and dated copy of the student's Form I-20 with the appropriate DSO recommendation, as previously described in this notice; and

(b) Send the application in an envelope which is clearly marked on the front of the envelope, bottom right-hand side, with the phrase “SPECIAL STUDENT RELIEF.” Failure to include this notation may result in significant processing delays.

If USCIS approves the student's Form I-765, USCIS will send the student a Form I-766 EAD as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or for other relief that reduces the student's course load per term and permits an increased number of work hours per week, such as Special Student Relief,⁵⁷ under this notice has two options.

⁵⁷ See DHS Study in the States, Special Student Relief, https://studyinthestates.dhs.gov/students/special-student-relief (last visited June 3, 2022).

Under the first option, the nonimmigrant student may apply for TPS according to the instructions in the USCIS notice designating Venezuela for TPS elsewhere in this issue of the Federal Register.⁵⁸ All TPS applicants must file a Form I-821, Application for Temporary Protected Status with the appropriate fee (or request a fee waiver). Although not required to do so, if F-1 nonimmigrant students want to obtain a new TPS-related EAD that is valid through March 10, 2024, they must file Form I-765 and pay the Form I-765 fee (or submit a Request for Fee Waiver (Form I-912)). An F-1 student who already has a TPS-related EAD will benefit from an automatic extension of the EAD through September 9, 2023, through the Federal Register notice extending the designation of Venezuela for TPS. A Venezuela TPS-related EAD can also be automatically extended for up to 540 days ⁵⁹ if an F-1 nonimmigrant student who is a TPS beneficiary properly files a renewal Form I-765 application and pays the Form I-765 fee (or submit a Request for Fee Waiver (Form I-912)) during the filing period described in the Federal Register notice extending the designation of Venezuela for TPS. After receiving the TPS-related EAD, an F-1 nonimmigrant student may request that their DSO make the required entry in SEVIS, issue an updated Form I-20, as described in this notice, and notate that the nonimmigrant student has been authorized to carry a reduced course load and is working pursuant to a TPS-related EAD. So long as the nonimmigrant student maintains the minimum course load described in this notice, does not otherwise violate their nonimmigrant status, including as provided under 8 CFR 214.1(g), and maintains TPS, then the student maintains F-1 status and TPS concurrently.

⁵⁸ Only those Venezuelan nationals (and noncitizens having no nationality who last habitually resided in Venezuela) who have continuously resided in the United States since March 8, 2021, and have been continuously physically present in the United States since March 10, 2021, are eligible to apply for TPS under this notice.

⁵⁹ 8 CFR 274a.13(d)(5).

Under the second option, the nonimmigrant student may apply for an EAD under Special Student Relief by filing Form I-765 with the location specified in the filing instructions. At the same time, the F-1 nonimmigrant student may file a separate TPS application but must submit the Form I-821 according to the instructions provided in the Federal Register notice designating Venezuela for TPS. If the F-1 nonimmigrant student has already applied for employment authorization under Special Student Relief they are not required to submit the Form I-765 as part of the TPS application. However, some nonimmigrant students may wish to obtain a TPS EAD in light of certain extensions that may be available to EADs with an A-12 or C-19 category code. The nonimmigrant student should check the appropriate box when filling out Form I-821 to indicate whether a TPS-related EAD is being requested. Again, so long as the nonimmigrant student maintains the minimum course load described in this notice and does not otherwise violate the student's nonimmigrant status, included as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁶⁰ unless or until the nonimmigrant student receives employment authorization under this notice. TPS-related employment authorization, by itself, does not authorize a nonimmigrant student to drop below twelve credit hours, or otherwise applicable minimum requirements (e.g., clock hours for non-traditional academic programs). Once approved for Special Student Relief employment authorization, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9)(i) and (ii).

⁶⁰ See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from the humanitarian crisis in Venezuela. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision might apply to students who worked on a TPS-related EAD or dropped their course load before publication of this notice, and therefore fell out of student status. These students must satisfy the criteria set forth in the F-1 nonimmigrant student status reinstatement regulations.

How long will this notice remain in effect?

This notice grants temporary relief through March 10, 2024,⁶¹ to eligible F-1 nonimmigrant students. DHS will continue to monitor the situation in Venezuela. Should the special provisions authorized by this notice need modification or extension, DHS will announce such changes in the Federal Register.

⁶¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of March 10, 2024, provided the student satisfies the minimum course load requirement in this notice. DHS also considers students who engage in online coursework pursuant to ICE COVID-19 guidance for nonimmigrant students to be in compliance with regulations while such guidance remains in effect. See ICE Guidance and Frequently Asked Questions on COVID-19, Nonimmigrant Students & SEVP-Certified Schools: Frequently Asked Questions, https://www.ice.gov/coronavirus (last visited July 8, 2022).

Paperwork Reduction Act (PRA)

An F-1 nonimmigrant student seeking off-campus employment authorization due to severe economic hardship resulting from the humanitarian crisis in Venezuela must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control No. 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2022-19542 Filed 9-7-22; 8:45 am]

BILLING CODE 9111-28-P